DEPARTMENT OF HEALTH AND HUMAN SERVICES

Administration for Community Living

Agency Information Collection Activities; Submission for OMB Review; Comment Request; Evaluation of the Aging and Disability Resource Center Program

AGENCY: Administration for Community Living, HHS.

ACTION: Notice.

SUMMARY: The Administration for Community Living (formerly the Administration on Aging (AoA)) is announcing that the proposed collection of information listed below has been submitted to the Office of Management and Budget (OMB) for review and clearance under the Paperwork Reduction Act of 1995.

DATES: Submit written comments on the collection of information by July 16, 2012.

ADDRESSES: Submit written comments on the collection of information by fax 202.395.6974 to the OMB Desk Officer for ACL, Office of Information and Regulatory Affairs, OMB.

FOR FURTHER INFORMATION CONTACT: Susan Jenkins, 202.357.3591.

SUPPLEMENTARY INFORMATION: In compliance with 44 U.S.C. 3507, the Administration for Community Living (Formerly the Administration for Aging) has submitted the following proposed collection of information to OMB for review and clearance. The data collection associated with the Evaluation for the Aging and Disability Resource Center (ADRC) Program is necessary to determine the overall effect of ADRCs on both long term support and service systems and individuals. ACL will gather information about how ADRCs provide services and whether consumers, who access ADRCs, as compared to consumers who access other systems, report that the experience is more personalized, consumer-friendly, streamlined, and efficient. Staff of the Administration for Community Living's Administration on Aging's Office of Nutrition and Health Promotion Programs will use the information and recommendations resulting from the evaluation of the Aging and Disability Resource Centers to both determine the value of the ADRC model and to improve program operations. In response to the 60-day Federal Register notice related to this proposed data collection and published on October 14, 2011, one set of comments was received. The majority of the comments focused on the practical utility of the proposed collection of information. The remaining comments provided suggestions for enhancing the quality and clarity of the information to be collected. Many of the latter comments resulted in revisions to the proposed data collection tools. The originally proposed data collection tools, the comments with responses and a revised set of data collection tools may be found on the AoA Web site: http://www.aoa.gov/AoA_programs/Tools_Resources/docs/ADRC_Eval_Data_Collection.pdf. ACL estimates the burden of this collection of information as follows 1,118 hours for individuals and 463 hours for organizations—Total Burden for Study 1581 hours.

Dated: June 7, 2012.
Kathy Greenlee,
Administrator and Assistant Secretary for Aging.

[FR Doc. 2012-14317 Filed 6-13-12; 8:45 am]

BILLING CODE 4154-01-P